DEPARTMENT OF TRANSPORTATION

Pipeline and Hazardous Materials Safety Administration

[Docket No. PHMSA-2016-0012; Notice No. 2016-01]

Hazardous Materials: Public Meeting Notice for the Research and Development Forum

AGENCY: Pipeline and Hazardous Materials Safety Administration (PHMSA), DOT.

ACTION: Notice of public meeting.

SUMMARY: This notice is to inform the interested public that the Office of Hazardous Materials Safety (OHMS) of the Pipeline and Hazardous Materials Safety Administration (PHMSA) will conduct a public meeting for the Research and Development Forum to be held on March 23 and 24, 2016, in Washington, DC. The OHMS will host the forum to present the results of recently completed projects, brief on new project plans with stakeholders input, and discuss the direction of current and future research projects.

During the meeting OHMS will solicit comments related to new research topics that may be considered for inclusion in its future work. The OHMS will accept research needs statements from industry, academia, and other stakeholders. Some examples of particular interest to OHMS are the research gaps associated with energetic materials characterization and transport, safe transport of energy products (STEP), safe containment and transportation of compressed gasses, safe packaging and transportation of charge storage devices, etc. Identification of other research gaps related to the transportation of hazardous materials will be encouraged in an effort to meet the holistic needs of the transportation community and the DOT's goals: Safety, infrastructure repair, environmental responsibility, quality communities, and economic competitiveness.

Time and Location: The meeting will be held at the DOT Headquarters, West Building, Oklahoma Conference Room, 1200 New Jersey Avenue SE., Washington, DC 20590-0001.

Wednesday, March 23, 2016; 9:00 a.m. to 4:30 p.m. EST.

Thursday, March 24, 2016; 9:00 a.m. to 12:00 p.m. EST.

Registration: The DOT requests that attendees pre-register for these meetings by completing the form at https://www.surveymonkey.com/r/XPG67SN. Failure to pre-register may delay your access into the DOT Headquarters building. Additionally, if you are attending in-person, arrive early to allow time for security checks necessary to access the building.

Conference call-in and “live meeting” capability will be provided. Specific information about conference call-in and live meeting access will be posted when available at: http://www.phmsa.dot.gov/hazmat/engineering-research/research-and-development in the “Products & Services” section of the page, at the link to “R&D Forum 2016.”

FOR FURTHER INFORMATION CONTACT: Dr. Veda Bharath or Tiffany Fossett, Office of Hazardous Materials Safety, Research and Development, Pipeline and Hazardous Materials Safety Administration, Department of Transportation, Washington, DC 20590. Telephone: (202) 366-0626 and (202) 366-4545. Email: satyaveda.bharath@dot.gov and tiffany.fossett.ctr@dot.gov.

Signed in Washington, DC, on February 1, 2016.
William S. Schoonover,
Deputy Associate Administrator.

[FR Doc. 2016-02146 Filed 2-3-16; 8:45 am]

BILLING CODE 4910-60-P